DEPARTMENT OF THE INTERIOR

National Park Service

Summary of Record of Decision; Re-analysis of Cumulative Impacts on the Sonoran Pronghorn; Supplemental Environmental Impact Statement

Organ Pipe Cactus National Monument; Arizona

The Department of the Interior, National Park Service, has prepared a Record of Decision on the Final Supplemental Environmental Impact Statement, Re-analysis of Cumulative Impacts on the Sonoran Pronghorn for Organ Pipe Cactus National Monument. The Record of Decision includes a brief planning history, the alternatives considered, the methodology used in the decision-making process, findings of the supplement, findings on impairment of park resources and values, basis for the decision, a description of the environmentally preferred alternative, an overview of public and agency involvement in the decision-making process, and measures to minimize harm. This notice serves as a summary of the Record of Decision and does not constitute the decision document. For a copy of the Record of Decision, please contact Laurie Domler, Planning and Environmental Compliance, NPS Intermountain Region, P.O. Box 25287, Denver, CO 80225-0287, or by e-mail at Laurie—Domler@nps.gov.

Planning History

The General Management Plan/Development Concept Plan/Environmental Impact Statement (GMP/DCP/EIS) for Organ Pipe Cactus National Monument was completed in 1997. The GMP/DCP/EIS looked at a range of alternatives for management of park resources and visitation as well as the appropriateness and location of needed facilities. The NPS initially presented a range of three alternatives that were presented in Draft and Supplemental Environmental Impact Statements. A fourth alternative and the selected action, the New Proposed Action, was developed by combining concepts and actions from the other alternatives.

During the general management planning process, the NPS entered into formal consultation with the United States Fish and Wildlife Service (USFWS) through its May 22, 1996 submittal of a biological assessment. The biological assessment examined the effects on four endangered species in the park, including the Sonoran pronghorn. The analysis of the Sonoran pronghorn indicated that there were no proposed actions in the GMP/DCP/EIS that would directly effect the pronghorn. However, it was found that increased visitor use may lead to indirect effects on the Sonoran pronghorn if human presence in the front- and backcountry causes an alternation in behavior and habitat use. The potential for increased traffic on Highway 85 was also examined. Past observations of pronghorn movements suggested that traffic along Highway 85 acts as a barrier to pronghorn, restricting their movements across the highway.

The biological assessment concluded that existing and future road conditions along Highway 85 would continue to act as a barrier to pronghorn movements. It stated that “ . . . these actions may adversely affect Sonoran pronghorn if it leads to a reduction in genetic exchange and reduced viability, potentially eliminating populations from this portion of their range.” The USFWS Biological Opinion concluded with a number of reasonable and prudent measures proposed to help reduce the impact on the Sonoran pronghorn. The USFWS issued a biological opinion on the NPS assessment on June 26, 1997. The opinion stated that the plan was “'.not likely to jeopardize the continued existence of the Sonoran pronghorn.”

A Record of Decision on the Organ Pipe Cactus National Monument General Management Plan/Development Concept Plan/Environmental Impact Statement selecting the New Proposed Action was signed on 28 January 1998.

On June 30, 1999, Defenders of Wildlife, et al., filed suit in Federal District Court (Defenders of Wildlife, et al. vs. Babbitt, et al., Civil Action No. 99-927) against the National Park Service, Bureau of Land Management, U.S. Fish and Wildlife Service (USFWS), U.S. Air Force, U.S. Marine Corps, National Guard, and the U.S. Border Patrol, charging that those agencies violated the Endangered Species Act and the National Environmental Policy Act (NEPA) by failing to protect the Sonoran pronghorn. On February 12, 2001, the Court ruled, in part, that the USFWS issued Biological Opinions that failed to address the impact of each defendant's activities on the pronghorn when added to the environmental baseline. The Court also ruled that the NPS issued an Environmental Impact Statement (of the GMP/DCP/EIS) that failed to address the cumulative impacts of their activities on the Sonoran pronghorn, when added to other past, present, and reasonable foreseeable future actions, regardless of what agency undertakes those actions.

Alternatives Considered

Pursuant to the Court order, the National Park Service re-evaluated cumulative impacts of the no action, and the selected action contained in the GMP/DCP/EIS and approved in the 1998 Record of Decision. In order to present the current environmental baseline at the monument, Alternative (A) Existing Conditions/No Action, was updated with those actions, authorized by the plan, that have either occurred since its approval or are currently underway. Alternative (B) The New Proposed Action, appears exactly as it did in the approved GMP/DCP/EIS.

Findings of the Supplement

The National Park Service has found that both the no action alternative and the preferred alternative (Alternative B: The New Proposed Action), when combined with past, present, and foreseeable future federal and non-federal actions, would likely result in a continued, incremental reduction in the ability of Sonoran pronghorn to maintain a viable population in the United States. Although the NPS contributes to a fraction of the overall impact on Sonoran pronghorn, increasing human presence in the form of monument visitors; undocumented aliens; travelers on Highway 85; and law enforcement officers constitute the greatest amount of adverse impacts on the pronghorn that the monument adds to the cumulative scenario.

Findings on Impairment

The cumulative impacts of this alternative have been determined to result in major adverse effects to the existing and future Sonoran pronghorn population in the United States. The loss of one or more Sonoran pronghorn would be a major adverse effect to a park resource. However, that loss would not be an impairment of park resources and values.

Basis of the Decision

After careful consideration of the findings of the supplement, USFWS conservation measures and recommendations, and public comment, the NPS has decided to continue to implement the New Proposed Action alternative that was selected through the 1998 Organ Pipe Cactus National Monument GMP/DCP/EIS Record of Decision. This decision is based on the following factors:

• The alternative continues to best achieve applicable NPS laws and policies, including the dual statutory NPS mandate to ensure long-term natural and cultural resource preservation while allowing for appropriate levels of visitor use, appropriate means of visitor enjoyment, and improved operational efficiency ;

• The alternative continues to be the option that best reconciles the many needs and desires expressed by extremely diverse public interest groups, including neighboring communities; Native Americans; advocacy groups; regional, state, and national publics; and multiple local, state, and Federal permitting authorities and agencies;

• The conservation measures agreed upon by the NPS and the USFWS consist largely of modifications to park operations that are administrative in nature and are not the type of actions that would require amendments or revisions to the GMP/DCP/EIS.

Conclusion

The Environmental Impact Statement provides the National Park Service findings of the cumulative impacts of past, present, and foreseeable future federal and non-federal actions on the Sonoran pronghorn. In addition, consultation between the National Park Service and the U.S. Fish and Wildlife Service has resulted in conservation measures, approved in the November 16, 2001 Final Biological Opinion and included in the record, that are proposed to minimize the incidental take of Sonoran pronghorn. The continued implementation of the New Proposed Action alternative would not result in the impairment of park resources and would allow the National Park Service to conserve park resources and would allow the National Park Service to conserve park resources and provide for their enjoyment by visitors.

Dated: March 11, 2002.
William E. Wellman,
Superintendent, Organ Pipe Cactus National Monument.
Dated: March 15, 2002.
Karen P. Wade,
Director, Intermountain Region.

[FR Doc. 02-8816 Filed 4-10-02; 8:45 am]

BILLING CODE 4310-70-P